DEPARTMENT OF JUSTICE

Antitrust Division

Notice Pursuant to the National Cooperative Research and Production Act of 1993—Medical Technology Enterprise Consortium

Notice is hereby given that, on April 14, 2022, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Acenxion Biosystems, Inc., Kansas City, KS; Advanced Functional Fabrics of America, Inc., Cambridge, MA; American Type Culture Collection, Manassas, VA; ApnoMed, Inc., Bellevue, WA; Arete Associates, Northridge, CA; Asayena, La Jolla, CA; Aspisafe Solutions, Inc., Brooklyn, NY; Atmospheric Plasma Solutions, Cary, NC; Avel eCare LLC, Sioux Falls, SD; Avocado Labs Inc., Dallas, TX; Baylor University, Waco, TX; Bennett Federal LLC, Plymouth, MN; Blue Horizon Development LLC dba Precise Portions LLC, Norfolk, VA; Boston Engineering Corporation, Waltham, MA; Cambridge Research & Development, Inc., Nashua, NH; Capital Edge Consulting, Inc., McLean, VA; Caretaker Medical, Charlottesville, VA; Centre for Injury Studies London, UK; Chenega Reliable Services LLC, San Antonio, TX; Clemson University Research Foundation, Clemson, SC; CorNeat Vision Ltd., Raanana, ISR; D-Prime LLC, McLean, VA; DxLab, Inc., Somerville, MA; Ejenta, Inc., San Francisco, CA; Enalare Therapeutics, Inc., Princeton, NJ; Excera, Inc., Minneapolis, MN; Fed Grow LLC dba FedNetix, Issaquah, WA; Federal Strategies LLC, Fredericksburg, VA; Frater GmbH, Naters, CH; GelSana Therapeutics, Inc., Aurora, CO; HAI Solutions, Inc., Santa Barbara, CA; Icahn School of Medicine at Mount Sinai, New York, NY; Ideal Medical Technologies, Inc., Asheville, NC; INdev LLC, Austin, TX; JAG Consulting LLC, Gulf Breeze, FL; JOHN J. RYAN (SEALING PRODUCTS) LIMITED, Dunboyne, IRE; Kunasan, Inc., Aurora, CO; Lactea Therapeutics LLC, Frederick, MD; LAINE Technologies, Goose Creek, SC; Leo Mora Therapy Services, PLLC, Killeen, TX; Limax Biosciences, Inc., Somerville, MA; Matregenix, Irvine, CA; MDC Studio, Inc., Baltimore, MD; MicroGEM US, Inc., Charlottesville, VA; Mid-America Applied Technologies Corporation, Chagrin Falls, OH; MLM Biologics, Inc., Gainesville, FL; Nakamir, Inc., Palo Alto, CA; Nanohmics, Inc., Austin, TX; Nanovatif Materials Technologies, Ankara, TUR; National Association of Veterans' Research and Education Foundations (NAVREF), Washington, DC; NowSecure, Inc., Vienna, VA; NuPeak Therapeutics, St Louis, MO; Obsidio, Inc., Columbia, SC; OneBreath, Inc., Palo Alto, CA; Organizational Performance Systems, Los Altos, CA; PALANQUINX PTY LTD, Hornsby Heights, AUS; Pascal Medical Corporation, Richmond, VA; PCCI, Inc., Alexandria, VA; PERSOWN, Inc., Jacksonville, FL; Quantumhave Ventura, Inc., San Jose, CA; Regranion LLC, Mt. Pleasant, SC; Repurposed Therapeutics, Inc. dba Defender Pharmaceuticals, Inc., Saint Louis, MO; Rock West Composites, Inc., San Diego, CA; SafetySpect, Inc., Grand Forks, ND; SanaHeal, Inc., Boston, MA; Scaled Microbiomics LLC, Hagerstown, MD; Selsym Biotech, Inc., Raleigh, NC; Sherpa 6, Inc., Littleton, CO; SISCAPA Assay Technologies, Inc., Washington, DC; Soliyarn, Belmont, MA; Sparta Biomedical, Inc., Chatham, NJ; SPEAR Human Performance, Inc., Sandy Springs, GA; SurgiBox, Cambridge, MA; TechEn, Inc., Milford, MA; Technion Research and Development Foundation Ltd, Haifa, ISR; TetraCells, Inc., Marietta, GA; The University of Texas at Tyler, Tyler, TX; TrainXR LLC, Las Vegas, NV; University of Oregon, Eugene, OR; University of Texas Medical Branch at Galveston, Galveston, TX; University of Texas Permian Basin, Odessa, TX; University of Texas System, Austin, TX; Valtamer Oy, Helsinki, FIN; Vista LifeSciences, Inc. dba Vista Partners, Parker, CO; Vistendo, Inc., Arcadia, CA; War Horses for Veterans, Inc., Stilwell, KS; Wave Neuroscience, Inc., Newport Beach, CA; and Xomix Ltd, Chicago, IL, been added as parties to this venture.

Also, Advancement Strategy LLC, Columbia, MD; Aktiv Pharma Group, Broomfield, CO; Alcamena Stem Cell Therapeutics LLC, Halethorpe, MD; Aldyn, Inc., Boston, MA; American Systems, Chantilly, VA; Arcos, Inc., Missouri City, TX; ARD Global LLC, McLean, VA; Avera Health, Sioux Falls, SD; Belle Artificial Intelligence Corporation, Cambridge, MA; Brainbox Solutions, Inc., Richmond, VA; Canvas Incorporated, Huntsville, AL; Capricor Therapeutics, Inc., Beverly Hills, CA; Carahsoft Technology Corporation, Reston, VA; Catharsis Productions, Chicago, IL; Cimarron Software Services, Inc., Houston, TX; Circadian Positioning Systems, Inc., Newport, RI; Cognosante, Falls Church, VA; Computer Technology Associates, Inc., Ridgecrest, CA; Dascena, Houston, TX; Delta Chase LLC, West Chester, OH; Dovel Technologies, McLean, VA; Dustoff Technologies LLC, Saint Augustine, FL; Exciton Technologies, Inc., Edmonton, Alberta, CAN; Expesicor, Inc., Missoula, MT; Exploration Institute, Cheyenne, WY; FesariusTherapeutics, Inc., Brooklyn, NY; Florida International University Board of Trustees, Miami, FL; FUJIFILM Pharmaceuticals USA, Inc., Valhalla, NY; GEN-AVIV LLC, North Miami Beach, FL; Georgia State University Research Foundation, Inc., Atlanta, GA; GreyScan, Inc., Melbourne, AUS; iGov Technologies, Inc., Tampa, FL; Kurve Technology, Inc., Lynnwood, WA; Luna Innovations Incorporated, Roanoke, VA; Martellus Pty, Ltd., Sydney, AUS; Maryland Development Center, Baltimore, MD; Navitas Business Consulting, Inc., Herndon, VA; Odyssey Systems Consulting Group, Ltd., Wakefield, MA; Opticyte, Inc., Seattle, WA; Parallax Advanced Research Corporation, Beavercreek, OH; Parnell Pharmaceuticals, Inc., San Rafael, CA; Pennsylvania State University, University Park, PA; PhAST Corp., Cambridge, MA; Phiex Technologies, Inc., Boston, MA; Plantiga Technologies, Inc., Vancouver, CAN; PreVeteran Group LLC, Jackson, WY; Rain Technologies LLC, Las Vegas, NV; Research Bridge Partners, Inc., Austin, TX; Retia Medical LLC, Valhalla, NY; Rhode Island Hospital, Providence, RI; RIVA Solutions, Inc., Mclean, VA; Rockland Technimed Limited, Mahwah, NJ; San Diego State University, San Diego, CA; SanMelix Laboratories, Inc., Hollywood, FL; Sentio Solutions, Inc., San Francisco, CA; Seventh Dimension LLC, Mocksville, NC; Sibel, Inc., Evanston, IL; SweetBio, Inc., Memphis, TN; Tagup, Inc., Somerville, MA; Think-Dragon LLC, Ellicott City, MD; Thornton Tomasetti, Inc., New York, NY; Throne Biotechnologies, Inc., Paramus, NJ; TITUS Sports Academy LLC, Tallahassee, FL; Turner Innovations, Orem, UT; University of New Hampshire, Durham, NH; VES LLC, Wilmington, OH; Virginia Commonwealth University, Richmond, VA; W.R. Joyce Incorporated, Michigan City, IN; ZIEN Medical Technologies, Inc., Salt Lake City, UT, has withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on February 4, 2022. A notice was published in the Federal Register pursuant to Section 6(b) of the Act on March 11, 2022 (87 FR 14041).

Suzanne Morris,
Chief, Premerger and Division Statistics, Antitrust Division.

[FR Doc. 2022-10244 Filed 5-12-22; 8:45 am]

BILLING CODE P